DEPARTMENT OF COMMERCE

National Oceanic and Atmospheric Administration

[RTID 0648-XA137]

Gulf of Mexico Fishery Management Council; Public Meeting

AGENCY: National Marine Fisheries Service (NMFS), National Oceanic and Atmospheric Administration (NOAA), Commerce.

ACTION: Notice of a public meeting via webinar.

SUMMARY: The Gulf of Mexico (GMFMC) and South Atlantic Fishery Management (SAFMC) Councils will hold a joint workgroup for Section 102 for the Modernizing Recreational Fisheries Management Act of 2018.

DATES: The meeting will convene on Monday, May 18, 2020, from 9 a.m. to 12 p.m., EST.

ADDRESSES: The meeting will take place via webinar.

Council address: Gulf of Mexico Fishery Management Council, 4107 W. Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Monday, May 18, 2020; 9 a.m.-12 p.m.

The meeting will begin with introductions, election of a Workgroup Chair, review of the Scope of Work, and development of a Workgroup Charge, work plan, and timeline. The Workgroup will receive an overview of Section 102: Fishery Management Measures of the Modernizing Recreational Fisheries Management Act of 2018 and review PowerPoint presentations made to the Council Coordinating Committee in November 2019. The workgroup will also review proposals put forward at the 2018 National Saltwater Recreational Fisheries Summit and prioritize alternative strategies for further consideration at the next meeting. They will review the outcomes from the SAFMC workshop and regional meetings on alternative recreational management strategies and prioritize alternative strategies for further consideration at the next meeting; and, discuss the characteristics of potential candidate species for alternative management strategies.

The Workgroup will discuss other business items, if any.

—Meeting adjourns

The meeting will be broadcast via webinar. You may register for the webinar by visiting www.gulfcouncil.org and clicking on the Workgroup meeting on the calendar.

The Agenda is subject to change, and the latest version along with other meeting materials will be posted on www.gulfcouncil.org as they become available.

Although other non-emergency issues not on the agenda may come before the Workgroup for discussion, in accordance with the Magnuson-Stevens Fishery Conservation and Management Act, those issues may not be the subject of formal action during this meeting. Actions of the Workgroup will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: April 20, 2020.
Tracey L. Thompson,
Acting Deputy Director, Office of Sustainable Fisheries, National Marine Fisheries Service.

[FR Doc. 2020-08621 Filed 4-22-20; 8:45 am]

BILLING CODE 3510-22-P